DEPARTMENT OF LABOR

Employment and Training Administration

[TA-W-63,603]

Western Mattress, San Angelo, TX; Notice of Termination of Investigation

Pursuant to Section 221 of the Trade Act of 1974, as amended, an investigation was initiated on June 26, 2008 in response to a petition filed by a company official on behalf of workers of Western Mattress, San Angelo, Texas.

The petitioner has requested that the petition be withdrawn. Consequently, the investigation has been terminated.

Signed at Washington, DC, this 14th day of July 2008.
Linda G. Poole,
Certifying Officer, Division of Trade Adjustment Assistance.

[FR Doc. E8-16572 Filed 7-18-08; 8:45 am]

BILLING CODE 4510-FN-P